DEPARTMENT OF JUSTICE

Notice of Lodging of Consent Decree Under the Comprehensive Environmental Response, Compensation, and Liability Act

Notice is hereby given that on February 14, 2002, a proposed consent decree in United States v. Kenneth H. Hunter, Jr., et al., Civil No. 97-9449 CAS (RZx), was lodged with the United States District Court for the Central District of California.

This consent decree represents a settlement of claims brought against Kenneth H. Hunter, Jr., Hunter Resources, and Casmalia Resources (“defendants”) relating to the Casmalia Resources Hazardous Waste Disposal Site (“Site”) located near Casmalia, California. The United States alleged in its complaint that the defendants owned and/or operated the Site and seeks the recovery of response costs incurred and to be incurred related to the Site pursuant to the Comprehensive Environmental Response, Compensation, and Liability Act, 42 U.S.C. 9601 et seq.

The consent decree requires the defendants to pay $6.957 million and imposes limitations on property owned by Casmalia Resources. The defendants also waive any claim that they may have to the Casmalia Closure/Post-Closure Trust Fund, which is currently valued in excess of $13 million. The consent decree also provides protection to certain peripheral parties.

The Department of Justice will receive, for a period of sixty (60) days from the date of this publication, comments relating to the consent decree. Comments should be addressed to the Assistant Attorney General, Environment and Natural Resources Division, P.O. Box 7611, U.S. Department of Justice, Washington, DC 20044-7611, and should refer to United States v. Kenneth H. Hunter, Jr., et al., DOJ Ref. 90-7-1-611D. A copy of all comments should also be sent to Bradley R. O'Brien, U.S. Department of Justice, Environment and Natural Resources Division, Environmental Enforcement Section, 301 Howard Street, Suite 1050, San Francisco, CA 94105. A public hearing will also be scheduled on this proposed settlement.

The consent decree may be examined at U.S. EPA Region 9, 75 Hawthorne Street, San Francisco, California. A copy of the consent decree may also be obtained by mail from the Consent Decree Library, P.O. Box 7611, U.S. Department of Justice, Washington, DC 20044-7611. In requesting a copy, please refer to United States v. Kenneth H. Hunter, Jr., et al. Civil No. 97-9449 CAS (RZx), DOJ Ref. 90-7-1-611D, and enclose a check in the amount of $72.25 (25 cents per page reproduction cost) payable to the Consent Decree Library.

Ellen M. Mahan,
Assistant Chief, Environmental Enforcement Section, Environment and Natural Resources Division.

[FR Doc. 02-5671 Filed 3-8-02; 8:45 am]

BILLING CODE 4410-15-M